DEPARTMENT OF AGRICULTURE

Commodity Credit Corporation

7 CFR Part 1434

RIN 0560-AH18

Nonrecourse Marketing Assistance Loan and Loan Deficiency Payment Regulations for Honey

AGENCY: Commodity Credit Corporation, USDA.

ACTION: Final rule.

SUMMARY: This rule adopts as a final rule, an interim rule published on August 25, 2004. The Commodity Credit Corporation (CCC) uses these regulations to provide marketing assistance loans (MAL) and loan deficiency payments (LDP) for honey pledged as loan collateral. This final rule does not change the interim rule, thus, it is adopted as a final rule without change.

DATES: This rule is effective January 21, 2005.

FOR FURTHER INFORMATION CONTACT: Kimberly Graham, 202-720-9154, e-mail: Kimberly.Graham@wdc.usda.gov. Persons with disabilities who require alternative means for communication (Braille, large print, audiotape, etc.) should contact the USDA Target Center at (202) 720-2600 (voice and TDD).

SUPPLEMENTARY INFORMATION:

Background

This rule finalizes a change in CCC regulations regarding producers of relatively small quantities of honey. Most honey marketed in the U.S. is stored in metal drums or plastic storage units called Intermediate Bulk Containers (IBC's), and the majority of commercially exported and imported honey is stored in steel drums. Smaller producers, however, often market through channels like farmer markets or local groceries, and store honey in smaller, less expensive, plastic containers. This rule finalizes regulations providing that honey stored in 5-gallon plastic containers is eligible for MAL's and LDP's.

Public Comments

Section 1601(c) of the Farm Security and Rural Investment Act of 2002 (Section 1601) provides that the regulations involved may be promulgated without notice and comment. Nonetheless, CCC solicited comments on the interim rule because it was determined to be in the public's interest. No comments were received.

Executive Order 12866

This rule is issued in conformance with Executive Order 12866, was determined to be not significant, and has not been reviewed by the Office of Management Budget.

Regulatory Flexibility Act

It has been determined that the Regulatory Flexibility Act is not applicable to this rule because CCC is not required to publish a notice proposed rulemaking for the subject matter of this rule.

Environmental Assessment

The environmental impacts of this rule have been considered in accordance with the provisions of the National Environmental Policy Act of 1969 (NEPA), 42 U.S.C. 4321 et seq., the regulations of the Council on Environmental Quality (40 CFR parts 1500-1508), and the FSA regulations for compliance with NEPA, 7 CFR part 799. FSA has initiated the completion of an environmental assessment (EA) to determine the potential impacts of this action upon the human and natural environments. A copy of the draft EA will be made available to the public upon its completion.

Executive Order 12988

This rule has been reviewed in accordance with Executive Order 12988. This rule preempts State laws that are inconsistent with it. Before any legal action may be brought regarding a determination under this rule, the administrative appeal provisions set forth at 7 CFR parts 11 and 780 must be exhausted.

Executive Order 12372

This program is not subject to the provisions of Executive Order 12372, which require intergovernmental consultation with State and local officials. See the notice related to 7 CFR part 3014, subpart V, published at 48 FR 29115 (June 24, 1983).

Unfunded Mandates Reform Act of 1995

The rule contains no Federal mandates under the regulatory provisions of Title II of the Unfunded Mandates Reform Act of 1995 (UMRA) for State, Local, and tribal governments or the private sector. Thus, this rule is not subject to the requirements of sections 202 and 205 of the UMRA.

Paperwork Reduction Act

Section 1601 provides that the promulgation of regulations and the administration of these regulations are not subject to review by OMB under the Paperwork Reduction Act.

Executive Order 12612

This rule does not have sufficient Federalism implications to warrant the preparation of a Federalism Assessment. This rule will not have a substantial direct effect on States or their political subdivisions or on the distribution of power and responsibilities among the various levels of government.

Government Paperwork Elimination Act

FSA is committed to compliance with the Government Paperwork Elimination Act (GPEA) and the Freedom to E-File Act, which require Government agencies in general and FSA in particular to provide the public the option of submitting information or transacting business electronically to the maximum extent possible. The forms and other information collection activities required for participation in the program are available electronically for downloading or electronic submission through the USDA eForms Web site at http://forms.sc.egov.usda.gov/eforms.

Federal Assistance Programs

The title and number of the Federal assistance program found in the Catalog of Federal Domestic Assistance to which this final rule applies are Commodity Loans and Loan Deficiency Payments, 10.051.

List of Subjects in 7 CFR Part 1434

Honey, Loan programs-agriculture, Reporting and recordkeeping requirements.

For the reasons set out in the preamble, 7 CFR part 1434 is amended as follows:

PART 1434—NONRECOURSE MARKETING ASSISTANCE LOAN AND LOAN DEFICIENCY PAYMENTS FOR HONEY

Accordingly, the interim rule amending 7 CFR part 1434 which was published at 69 FR 52167, on August 25, 2004, is adopted as a final rule without change.

Signed in Washington, DC, on January 11, 2005.
James R. Little,
Executive Vice President, Commodity Credit Corporation.

[FR Doc. 05-1050 Filed 1-19-05; 8:45 am]

BILLING CODE 3410-05-P